DEPARTMENT OF THE INTERIOR

National Park Service

[NPS-WASO-NRNHL-DTS#-34995; PPWOCRADI0, PCU00RP14.R50000]

National Register of Historic Places; Notification of Pending Nominations and Related Actions

AGENCY: National Park Service, Interior.

ACTION: Notice.

SUMMARY: The National Park Service is soliciting electronic comments on the significance of properties nominated before December 3, 2022, for listing or related actions in the National Register of Historic Places.

DATES: Comments should be submitted electronically by January 3, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before December 3, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name (if applicable), Address/Boundary, City, Vicinity, Reference Number.

CALIFORNIA

San Bernardino County

New City of Mentalphysics Historic District, 59700 Twentyninepalms Hwy., Joshua Tree, SG100008539

MAINE

Penobscot County

Great Fire of 1911 Historic District (Boundary Increase), 29 Franklin St, .Bangor, BC100008538

MINNESOTA

Ramsey County

Henry Hale Memorial Library, Hamline Branch, 1558 Minnehaha Ave. West, St. Paul, SG100008536

MONTANA

Yellowstone County

James F. Battin Federal Building (Courthouse & Federal Office Building), 316 North 26th St., Billings, SG100008535

PENNSYLVANIA

Allegheny County

Koerner, Henry, House, 1055 South Negley Ave., Pittsburgh, SG100008534

Additional documentation has been received for the following resource:

ARIZONA

Pima County

Blenman-Elm Historic District (Additional Documentation), 2116 East Helen St., Tucson, AD03000318

Authority: Section 60.13 of 36 CFR part 60

Dated: December 7, 2022.
Sherry A. Frear,
Chief, National Register of Historic Places/National Historic Landmarks Program.

[FR Doc. 2022-27264 Filed 12-15-22; 8:45 am]

BILLING CODE 4312-52-P